DEPARTMENT OF ENERGY

Federal Energy Regulatory Commission

Combined Notice of Filings #1

Take notice that the Commission received the following electric corporate filings:

Docket Numbers: EC15-77-000.

Applicants: TriEagle Energy, LP, Crius Energy, LLC.

Description: Joint Application for Authorization of Transaction Under Section 203 of TriEagle Energy, LP, et al.

Filed Date: 2/23/15.

Accession Number: 20150223-5265.

Comments Due: 5 p.m. ET 3/16/15.

Take notice that the Commission received the following exempt wholesale generator filings:

Docket Numbers: EG15-53-000.

Applicants: Beethoven Wind, LLC.

Description: Notice of Self-Certification of Beethoven Wind, LLC as an Exempt Wholesale Generator.

Filed Date: 2/24/15.

Accession Number: 20150224-5073.

Comments Due: 5 p.m. ET 3/17/15.

Take notice that the Commission received the following electric rate filings:

Docket Numbers: ER13-107-008.

Applicants: South Carolina Electric & Gas Company.

Description: Compliance filing per 35: Order 1000 Regional Compliance Filing 2-23-15 to be effective 4/19/2013.

Filed Date: 2/23/15.

Accession Number: 20150223-5209.

Comments Due: 5 p.m. ET 3/16/15.

Docket Numbers: ER13-1864-001.

Applicants: Southwest Power Pool, Inc.

Description: Compliance filing per 35: SPP-MISO JOA Market-to-Market Compliance Filing in ER13-1864 to be effective 3/1/2015.

Filed Date: 2/23/15.

Accession Number: 20150223-5244.

Comments Due: 5 p.m. ET 3/16/15.

Docket Numbers: ER13-187-010.

Applicants: Midcontinent Independent System Operator, Inc.

Description: Compliance filing per 35: 2015-02-23_Regional Order 1000 Compliance Filing to be effective 6/1/2013.

Filed Date: 2/23/15.

Accession Number: 20150223-5231.

Comments Due: 5 p.m. ET 3/16/15.

Docket Numbers: ER15-509-001.

Applicants: Southwest Power Pool, Inc.

Description: Compliance filing per 35: Transmission Owner Selection Process Compliance Filing to be effective 1/26/2015.

Filed Date: 2/23/15.

Accession Number: 20150223-5245.

Comments Due: 5 p.m. ET 3/16/15.

Docket Numbers: ER15-1085-000.

Applicants: Union Electric Company.

Description: Tariff Withdrawal per 35.15: Notice of Cancellation of Rate Schedule No. 3 to be effective 4/30/2010.

Filed Date: 2/23/15.

Accession Number: 20150223-5246.

Comments Due: 5 p.m. ET 3/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2015.
Nathaniel J. Davis, Sr.,
Deputy Secretary.

[FR Doc. 2015-04241 Filed 2-27-15; 8:45 am]

BILLING CODE 6717-01-P